FEDERAL COMMUNICATIONS COMMISSION

47 CFR Part 20

[CC Docket No. 94-102; DA 02-3565]

Petition for Declaratory Ruling Regarding the Applicability of E911 Phase II Requirements for Wireless Handsets to In-Vehicle, Embedded Telematics Units, Comments Invited

AGENCY: Federal Communications Commission.

ACTION: Final rule; petition for declaratory ruling.

SUMMARY: The Commission seeks comment on a petition for ruling from OnStar Corporation, seeking clarification that embedded telematics units are not “handsets” as that term is used in the Commission's orders in this proceeding, and that such units are not included in calculating the wireless licensee's enhanced 911 Phase II handset activation compliance requirements. The action is taken to establish a record on which to base a response to OnStar Corporation's request.

DATES: Comments are due on or before January 24, 2003, and reply comments are due on or before February 7, 2003.

FOR FURTHER INFORMATION CONTACT: David Siehl, Attorney, (202) 418-1310.

SUPPLEMENTARY INFORMATION: 1. On December 3, 2002, the OnStar Corporations (OnStar) filed a Petition for Ruling (Declaratory Ruling Petition), seeking clarification that (1) embedded telematics units are not “handsets” as that term is used in the Commission's orders in CC Docket No. 94-102, and (2) such units are not included in calculating the wireless licensee's E911 Phase II handset activation compliance requirements.

2. In the Wireless E911 Third Report and Order, the Commission adopted rules that imposed requirements on wireless carriers who employ a Phase II location technology requiring new, modified or upgraded handsets (such as Global Positioning Systems (GPS)-based technologies). (64 FR 60126, November 4, 1999.) These requirements included deployment schedules, penetration rates, interoperability criteria, and standards for Phase II location accuracy and reliability. The Wireless E911 Third Report and Order also amended § 20.3 of the Commission's rules to define location-capable handsets as “portable or mobile phones that contain special location-determining hardware and/or software, which is used by a licensee to locate 911 calls.”

3. OnStar asserts that embedded telematics devices should not be treated as handsets and, therefore, not be subject to the Commission's E911 Phase II requirements at this time. OnStar contends that the assumptions concerning conventional handset technology on which the Commission's E911 Phase II decisions are based are not applicable to embedded telematics devices. OnStar asserts that embedded telematics developed around the use of autonomous (stand-alone) GPS while handset based Phase II technology has developed around a network assisted Global Positioning System/Advanced Forward Link Trilateration (AGPS/AFLT) handset solution.

4. In addition, OnStar contends that embedded telematics units should not be treated as handsets in calculating compliance with the underlying wireless licensee's handset activation requirements. OnStar submits that although handsets have relatively short lifecycles and are independent units routinely exchanged, retrofitting existing embedded analog telematics units with digital units is much more costly given technology and accessibility factors. OnStar contends that wireless carriers serving large populations of telematics units will lose the benefit of the five percent margin for handset compliance for E911 Phase II by December 31, 2005, with respect to “true handsets,” and may even exceed the five percent margin with telematics units alone.

5. We seek comment on the issues raised by the Declaratory Ruling Petition. Interested parties may file comments to the Petition on or before January 24, 2003. Reply comments are due February 7, 2003. Comments may be filed using the Commission's Electronic Comment Filing System (ECFS) or by filing paper copies.

6. This is a “permit but disclose” proceeding pursuant to § 1.1206 of the Commission's rules. Ex parte presentations that are made with respect to the issues involved with regard to the Petition will be allowed but must be disclosed in accordance with the requirements of § 1.1206(b) of the Commission's rules.

7. Comments filed through the ECFS can be sent as an electronic file via the Internet to http://www.fcc.gov/e-file/ecfs.html. Generally, only one copy of an electronic submission must be filed. In completing the transmittal screen, filing parties should include their full name, Postal Service mailing address, and the applicable docket or rulemaking number. Parties may also submit an electronic comment by Internet e-mail. To get filing instructions for e-mail comments, parties should send an e-mail to ecfs@fcc.gov, and should include the following words in the body of the message, “get form <your e-mail address>.” A sample form and directions will be sent in reply. Commenters also may obtain a copy of the ASCII Electronic Transmittal Form (FORM-ET) at http://www.fcc.gov/e-file/email.html.

8. Parties who choose to file by paper must file an original and four copies of each filing. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission. In addition, a diskette copy should be sent to the Commission's copy contractor, Qualex International, Portals II, 445 12th Street, SW., Room CY-B402, Washington, DC 20554, telephone (202) 863-2893, facsimile (202) 863-2898, or via e-mail to qualexint@aol.com.

9. The full text of the Declaratory Ruling Petition, and responsive comments will be available for public inspection and copying during regular business hours at the FCC Reference Information Center, Portals II, 445 12th Street, SW., Room CY-A257, Washington, DC 20554. This document may also be purchased from the Commission's duplicating contractor. Alternative formats (computer diskette, large print, audio recording and Braille) are available to persons with disabilities by contacting Brian Millin, of the Consumer and Governmental Affairs Bureau, at (202) 418-7426 (voice) or (202) 418-7365 (TTY), or at bmillin@fcc.gov. This Public Notice can also be downloaded in Text and ASCII formats at: http://www.fcc.gov/cib/dro. For further information concerning this proceeding, contact David Siehl or Patrick Forster, Policy Division, Wireless Telecommunications Bureau, at (202) 418-1310 (voice) or (202) 418-1169 (TTY).

Federal Communications Commission.
Kathleen O'Brien-Ham,
Deputy Chief, Wireless Telecommunications Bureau.

[FR Doc. 03-947 Filed 1-15-03; 8:45 am]

BILLING CODE 6712-01-P